DEPARTMENT OF HOMELAND SECURITY

Federal Emergency Management Agency

[Docket ID FEMA-2015-0001; Internal Agency Docket No. FEMA-B-1471]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 15, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1471, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

(Catalog of Federal Domestic Assistance No. 97.022, “Flood Insurance.”)

Dated: February 23, 2015.
Roy E. Wright,
Deputy Associate Administrator for Mitigation, Department of Homeland Security, Federal Emergency Management Agency.

Community | Community map repository address
Atlantic County, New Jersey (All Jurisdictions)
Maps Available for Inspection Online at: http://www.fema.gov/preliminaryfloodhazarddata
Borough of Buena | Buena Borough Construction and Permits Office, 616 Central Avenue, Minotola, NJ 08341.
Borough of Folsom | Borough Hall, 1700 12th Street, Folsom, NJ 08037.
Borough of Longport | Borough Hall, 2305 Atlantic Avenue, Longport, NJ 08403.
City of Absecon | City Hall, 500 Mill Road, Absecon, NJ 08201.
City of Atlantic City | City Hall, 1301 Bacharach Boulevard, Atlantic City, NJ 08401.
City of Brigantine | City Hall, 1417 West Brigantine Avenue, Brigantine, NJ 08203.
City of Corbin City | City Hall, 316 Route 50, Corbin City, NJ 08270.
City of Egg Harbor City | City Hall, 500 London Avenue, Egg Harbor City, NJ 08215.
City of Estell Manor | City Hall, 148 Cumberland Avenue, Estell Manor, NJ 08319.
City of Linwood | Construction Office, 400 Poplar Avenue, Linwood, NJ 08221.
City of Margate City | Construction Office, 9001 Winchester Avenue, Margate City, NJ 08402.
City of Northfield | City Hall, 1600 Shore Road, Northfield, NJ 08225.
City of Pleasantville | City Hall, 18 North First Street, Pleasantville, NJ 08232.
City of Port Republic | City Hall, 143 Main Street, Port Republic, NJ 08241.
City of Somers Point | Construction Office, 741 Shore Road, Somers Point, NJ 08244.
City of Ventnor City | Ventnor City Clerk's Office, 6201 Atlantic Avenue, Ventnor, NJ 08406.
Town of Hammonton | Engineer's Office, 850 South White Horse Pike, Hammonton, NJ 08037.
Township of Buena Vista | Buena Vista Township Hall, 890 Harding Highway, Buena, NJ 08310.
Township of Egg Harbor | Municipal Building, 3515 Bargaintown Road, Egg Harbor Township, NJ 08234.
Township of Galloway | Construction Office, 300 East Jimmie Leeds Road, Galloway, NJ 08205.
Township of Hamilton | Hamilton Township Zoning Office, 6101 Thirteenth Street, Mays Landing, NJ 08330.
Township of Mullica | Mullica Township Hall, 4528 White Horse Pike, Elwood, NJ 08217.
Township of Weymouth | Weymouth Township Municipal Building, 45 South Jersey Avenue, Dorothy, NJ 08317.
Burlington County, New Jersey (All Jurisdictions)
Maps Available for Inspection Online at: http://www.fema.gov/preliminaryfloodhazarddata
Township of Bass River | Bass River Township Municipal Building, 3 North Maple Avenue, New Gretna, NJ 08087.
Township of Washington | Washington Township Municipal Building, 2436 County Route 563, Egg Harbor, NJ 08215.
Cape May County, New Jersey (All Jurisdictions)
Maps Available for Inspection Online at: http://www.fema.gov/preliminaryfloodhazarddata
Borough of Avalon | Construction Office, 3100 Dune Drive, Avalon, NJ 08202.
Borough of Cape May Point | Clerk's Office, 215 Lighthouse Avenue, Cape May Point, NJ 08212.
Borough of Stone Harbor | Construction Office, 9508 Second Avenue, Stone Harbor, NJ 08247.
Borough of West Cape May | Borough Hall, 732 Broadway, West Cape May, NJ 08204.
Borough of West Wildwood | Borough Hall, 701 West Glenwood Avenue, West Wildwood, NJ 08260.
Borough of Wildwood Crest | Construction Department, 6101 Pacific Avenue, Wildwood Crest, NJ 08260.
Borough of Woodbine | Borough Hall, 501 Washington Avenue, Woodbine, NJ 08270.
City of Cape May | Assessor's Office, 643 Washington Street, Cape May, NJ 08204.
City of North Wildwood | City Hall, 901 Atlantic Avenue, North Wildwood, NJ 08260.
City of Ocean City | Community Operations Department, 115 East 12th Street, Ocean City, NJ 08226.
City of Sea Isle City | City Hall, 4501 Park Road, Sea Isle City, NJ 08243.
City of Wildwood | Zoning Office, 4400 New Jersey Avenue, Wildwood, NJ 08260.
Township of Dennis | Dennis Township Municipal Building, 571 Petersburg Road, Dennisville, NJ 08214.
Township of Lower | Lower Township Hall, 2600 Bayshore Road, Villas, NJ 08251.
Township of Middle | Middle Township Construction Office, 10 South Boyd Street, Cape May Court House, NJ 08210.
Township of Upper | Upper Township Engineering Office, 2100 Tuckahoe Road, Petersburg, NJ 08270.
Cumberland County, New Jersey (All Jurisdictions)
Maps Available for Inspection Online at: http://www.fema.gov/preliminaryfloodhazarddata
Borough of Shiloh | Clerk's Office, 900 Main Street, Shiloh, NJ 08353.
City of Bridgeton | Construction Code Office, 181 East Commerce Street, Bridgeton, NJ 08302.
City of Millville | Clerk's Office, 12 South High Street, Millville, NJ 08332.
City of Vineland | Planning Department, 640 East Wood Street, Vineland, NJ 08360.
Township of Commercial | Commercial Township Code Enforcement Office, 1768 Main Street, Port Norris, NJ 08349.
Township of Deerfield | Deerfield Township Hall, 736 Landis Avenue, Rosenhayn, NJ 08352.
Township of Downe | Downe Township Hall, 288 Main Street, Newport, NJ 08345.
Township of Fairfield | Fairfield Township Construction Office, 70 Fairton Gouldtown Road, Fairton, NJ 08320.
Township of Greenwich | Emergency Management Building, 1000 Ye Greate Street, Greenwich, NJ 08323.
Township of Hopewell | Hopewell Township Municipal Building, 590 Shiloh Pike, Bridgeton, NJ 08302.
Township of Lawrence | Lawrence Township Construction Code Office, 357 Main Street, Cedarville, NJ 08311.
Township of Maurice River | Maurice River Township Construction and Zoning Office, 590 Main Street, Leesburg, NJ 08327.
Township of Stow Creek | Stow Creek Township Clerk's Office, 900 Main Street, Shiloh, NJ 08353.
Township of Upper Deerfield | Upper Deerfield Township Clerk's Office, 1325 Highway 77, Seabrook, NJ 08302.
Essex County, New Jersey (All Jurisdictions)
Maps Available for Inspection Online at: http://www.fema.gov/preliminaryfloodhazarddata
Borough of North Caldwell | Borough Hall, 141 Gould Avenue, North Caldwell, NJ 07006.
City of Newark | Office of the City Clerk, 920 Broad Street, Newark, NJ 07102.
Township of Belleville | Engineering Office, 152 Washington Avenue, Belleville, NJ 07109.
Township of Bloomfield | Municipal Building, 1 Municipal Plaza, Bloomfield, NJ 07003.
Township of Fairfield | Engineering Department, 230 Fairfield Road, Fairfield, NJ 07004.
Township of Montclair | Planning Department, 205 Claremont Avenue, Montclair, NJ 07042.
Township of Nutley | Township Hall, 1 Kennedy Drive, Nutley, NJ 07110.
Township of West Caldwell | Municipal Building, 30 Clinton Road, West Caldwell, NJ 07006.
Hudson County, New Jersey (All Jurisdictions)
Maps Available for Inspection Online at: http://www.fema.gov/preliminaryfloodhazarddata
Borough of East Newark | Building Department, 34 Sherman Avenue, 2nd Floor, East Newark, NJ 07029.
City of Bayonne | Municipal Building Department, 630 Avenue C, Room 13, Bayonne, NJ 07002.
City of Hoboken | Zoning Office, 94 Washington Street, Hoboken, NJ 07030.
City of Jersey City | Construction Code Official's Office, 30 Montgomery Street, Room 412, Jersey City, NJ 07302.
City of Union City | City Clerk's Office, 3715 Palisade Avenue, Union City, NJ 07087.
Town of Guttenberg | Construction Official's Office, 6808 Park Avenue, Guttenberg, NJ 07093.
Town of Harrison | Engineer's Office, 318 Harrison Avenue, Harrison, NJ 07029.
Town of Kearny | Building Department, 410 Kearny Avenue, Kearny, NJ 07032.
Town of Secaucus | Town Hall, 1203 Paterson Plank Road, 4th Floor, Secaucus, NJ 07094.
Town of West New York | Town Hall, Office of Emergency Management Director's Office, 428 60th Street, West New York, NJ 07093.
Township of North Bergen | Township of North Bergen, Boswell Engineering, 330 Phillips Avenue, South Hackensack, NJ 07606.
Township of Weehawken | Town Hall, 400 Park Avenue, Weehawken, NJ 07086.
Middlesex County, New Jersey (All Jurisdictions)
Maps Available for Inspection Online at: http://www.fema.gov/preliminaryfloodhazarddata
Borough of Carteret | Memorial Municipal Building, 61 Cooke Avenue, Carteret, NJ 07008.
Borough of Highland Park | Municipal Building, Clerk's Office, 221 South Fifth Avenue, Highland Park, NJ 08904.
Borough of Middlesex | Municipal Building, Construction Department, 1200 Mountain Avenue, Middlesex, NJ 08846.
Borough of Sayreville | Construction Office, 49 Dolan Street, Sayreville, NJ 08872.
Borough of South River | Municipal Offices, 48 Washington Street, South River, NJ 08882.
Borough of Spotswood | Municipal Building, 77 Summerhill Road, Spotswood, NJ 08884.
City of New Brunswick | Civic Square, Engineering Department, 25 Kirkpatrick Street, New Brunswick, NJ 08901.
City of Perth Amboy | Code Enforcement Department, 375 New Brunswick Avenue, Perth Amboy, NJ 08861.
City of South Amboy | City of South Amboy, Center State Engineering, 481 Spotswood Englishtown Road, Monroe Township, NJ 08831.
Township of East Brunswick | Municipal Building, 1 Jean Walling Civic Center Drive, East Brunswick, NJ 08816.
Township of Edison | Municipal Complex, Engineering Department, 100 Municipal Boulevard, 2nd Floor, Edison, NJ 08817.
Township of Monroe | Center State Engineering, 481 Spotswood Englishtown Road, Monroe Township, NJ 08831.
Township of Old Bridge | Municipal Building, Engineering Department, 1 Old Bridge Plaza, Old Bridge, NJ 08857.
Township of Piscataway | Public Works Building, Community Development Department, 505 Sidney Road, Piscataway, NJ 08854.
Township of Woodbridge | Municipal Building, Engineering Department, 1 Main Street, Woodbridge, NJ 07095.
Monmouth County, New Jersey (All Jurisdictions)
Maps Available for Inspection Online at: http://www.fema.gov/preliminaryfloodhazarddata
Borough of Allenhurst | Borough Hall, 125 Corlies Avenue, Allenhurst, NJ 07711.
Borough of Atlantic Highlands | Borough Hall, 100 First Avenue, Atlantic Highlands, NJ 07716.
Borough of Avon-by-the-Sea | Municipal Building, 301 Main Street, Avon-By-The-Sea, NJ 07717.
Borough of Belmar | Borough Hall, 601 Main Street, Belmar, NJ 07719.
Borough of Bradley Beach | Municipal Building, 701 Main Street, Bradley Beach, NJ 07720.
Borough of Brielle | Borough Hall, 601 Union Lane, Brielle, NJ 08730.
Borough of Deal | Borough Hall, 190 Norwood Avenue, Deal, NJ 07723.
Borough of Eatontown | Building Department, 47 Broad Street, Eatontown, NJ 07724.
Borough of Fair Haven | Borough Hall, 748 River Road, Fair Haven, NJ 07704.
Borough of Highlands | Municipal Office, 42 Shore Drive, Highlands, NJ 07732.
Borough of Interlaken | Borough Hall, 100 Grasmere Avenue, Interlaken, NJ 07712.
Borough of Keansburg | Municipal Building, Code Office, 29 Church Street, Keansburg, NJ 07734.
Borough of Keyport | Borough Hall, Administration Office, 2nd Floor, 70 West Front Street, Keyport, NJ 07735.
Borough of Lake Como | Borough Hall, 1740 Main Street, Lake Como, NJ 07719.
Borough of Little Silver | Borough Hall, Clerk's Office, 480 Prospect Avenue, Little Silver, NJ 07739.
Borough of Manasquan | Borough Hall, Building and Construction Code Department, 201 East Main Street, Manasquan, NJ 08736.
Borough of Matawan | Borough Hall, 201 Broad Street, Matawan, NJ 07747.
Borough of Monmouth Beach | Borough Hall, 22 Beach Road, Monmouth Beach, NJ 07750.
Borough of Neptune City | Borough Hall, 106 West Sylvania Avenue, Neptune City, NJ 07753.
Borough of Oceanport | Old Borough Hall, Building and Zoning Department, 222 Monmouth Boulevard, Oceanport, NJ 07757.
Borough of Red Bank | Borough Hall, Planning and Zoning Department, 3rd Floor, 90 Monmouth Street, Red Bank, NJ 07701.
Borough of Rumson | Municipal Building, Zoning Department, 80 East River Road, Rumson, NJ 07760.
Borough of Sea Bright | Borough Hall, 1167 Ocean Avenue, Sea Bright, NJ 07760.
Borough of Sea Girt | Borough Hall, 321 Baltimore Boulevard, Sea Girt, NJ 08750.
Borough of Shrewsbury | Borough Municipal Complex, 419 Sycamore Avenue, Shrewsbury, NJ 07702.
Borough of Spring Lake | Borough Hall, Construction Department, 423 Warren Avenue, Spring Lake, NJ 07762.
Borough of Spring Lake Heights | Municipal Building, 555 Brighton Avenue, Spring Lake Heights, NJ 07762.
Borough of Tinton Falls | Municipal Building, Zoning Office, 556 Tinton Avenue, Tinton Falls, NJ 07724.
Borough of Union Beach | Borough Hall, Construction Office, 1205 Florence Avenue, Union Beach, NJ 07735.
City of Asbury Park | Construction Department, 1 Municipal Plaza, Asbury Park, NJ 07712.
City of Long Branch | City Hall, 2nd Floor, 344 Broadway, Long Branch, NJ 07740.
Township of Aberdeen | Department of Zoning, 1 Aberdeen Square, Aberdeen, NJ 07747.
Township of Hazlet | Municipal Building, Construction Department, 1766 Union Avenue, Hazlet, NJ 07730.
Township of Holmdel | Municipal Building, Zoning Office, 4 Crawfords Corner Road, Holmdel, NJ 07733.
Township of Middletown | Johnson Gill Annex, Building Department, 1 Kings Highway, Middletown, NJ 07748.
Township of Neptune | Township Hall, Construction Department, 25 Neptune Boulevard, Neptune, NJ 07753.
Township of Ocean | Ocean Township Hall, Department of Community Development, 399 Monmouth Road, Oakhurst, NJ 07755.
Township of Wall | Municipal Building, Construction Department, 2700 Allaire Road, Wall, NJ 07719.
Village of Loch Arbour | Village Office, 550 Main Street, Loch Arbour, NJ 07711.
Ocean County, New Jersey (All Jurisdictions)
Maps Available for Inspection Online at: http://www.fema.gov/preliminaryfloodhazarddata
Borough of Barnegat Light | Municipal Building, 10 East 7th Street, Barnegat Light, NJ 08006.
Borough of Bay Head | Municipal Office, 106 Bridge Avenue, Bay Head, NJ 08742.
Borough of Beach Haven | Borough Hall, 420 Pelham Avenue, Beach Haven, NJ 08008.
Borough of Beachwood | Municipal Complex, 1600 Pinewald Road, Beachwood, NJ 08722.
Borough of Harvey Cedars | Borough Hall, 7606 Long Beach Boulevard, Harvey Cedars, NJ 08008.
Borough of Island Heights | Borough Hall, 1 Wanamaker Municipal Complex, Island Heights, NJ 08732.
Borough of Lavallette | Trailer 2, Lavallette Fire House Parking Lot, 125 Washington Avenue, Lavallette, NJ 08753.
Borough of Mantoloking | Mantoloking Borough Hall, Yogi Plaza, 340 Drum Point Road, 2nd Floor, Brick, NJ 08723.
Borough of Ocean Gate | Municipal Building, 801 Ocean Gate Avenue, Ocean Gate, NJ 08740.
Borough of Pine Beach | Municipal Building, 599 Pennsylvania Avenue, Pine Beach, NJ 08741.
Borough of Point Pleasant | Borough Hall, 2233 Bridge Avenue, Point Pleasant, NJ 08742.
Borough of Point Pleasant Beach | Municipal Building, 416 New Jersey Avenue, Point Pleasant Beach, NJ 08742.
Borough of Seaside Heights | Municipal Building, 901 Boulevard, Seaside Heights, NJ 08751.
Borough of Seaside Park | Borough Hall, 1701 North Ocean Avenue, Seaside Park, NJ 08752.
Borough of Ship Bottom | Municipal Building, 1621 Long Beach Boulevard, Ship Bottom, NJ 08008.
Borough of South Toms River | Municipal Building, 144 Mill Street, South Toms River, NJ 08757.
Borough of Surf City | Municipal Building, 813 Long Beach Boulevard, Surf City, NJ 08008.
Borough of Tuckerton | Borough Hall, 420 East Main Street, Tuckerton, NJ 08087.
Township of Barnegat | Municipal Building, 900 West Bay Avenue, Barnegat, NJ 08005.
Township of Berkeley | Berkeley Township Hall, 627 Pinewald-Keswick Road, Bayville, NJ 08721.
Township of Brick | Township Municipal Complex, 401 Chambersbridge Road, Brick, NJ 08723.
Township of Eagleswood | Eagleswood Township Hall, 146 Division Street, West Creek, NJ 08092.
Township of Lacey | Lacey Township Municipal Building, 818 West Lacey Road, Forked River, NJ 08731.
Township of Lakewood | Municipal Building, 231 Third Street, Lakewood, NJ 08701.
Township of Little Egg Harbor | Administrative Justice Complex, 665 Radio Road, Little Egg Harbor, NJ 08087.
Township of Long Beach | Long Beach Township Building Department, 6805 Long Beach Boulevard, Brant Beach, NJ 08008.
Township of Manchester | Municipal Building, 1 Colonial Drive, Manchester, NJ 08759.
Township of Ocean | Ocean Township Construction and Zoning Office, 50 Railroad Avenue, Waretown, NJ 08758.
Township of Stafford | Stafford Township Municipal Building, 260 East Bay Avenue, Manahawkin, NJ 08050.
Township of Toms River | Township Engineer's Office, 33 Washington Street, Toms River, NJ 08753.
Salem County, New Jersey (All Jurisdictions)
Maps Available for Inspection Online at: http://www.fema.gov/preliminaryfloodhazarddata
Borough of Elmer | Borough Hall, 120 South Main Street, Elmer, NJ 08318.
Borough of Penns Grove | Borough Hall, 1 State Street, Penns Grove, NJ 08069.
Borough of Woodstown | 25 West Avenue, Woodstown, NJ 08098.
City of Salem | 17 New Market Street, Salem, NJ 08079.
Township of Alloway | 49 South Greenwich Street, Alloway, NJ 08001.
Township of Carneys Point | 303 Harding Highway, Carneys Point, NJ 08069.
Township of Elsinboro | Elsinboro Township Municipal Building, 619 Salem Fort-Elfsborg Road, Salem, NJ 08079.
Township of Lower Alloways Creek | Township of Lower Alloways Creek, 501 Locust Island Road, Hancock's Bridge, NJ 08038.
Township of Mannington | Town Hall, 491 Route 45, Mannington, NJ 08079.
Township of Oldmans | Township of Oldmans, Pedricktown Hall, 40 Freed Road, Pedricktown, NJ 08067.
Township of Pennsville | Town Hall, 90 North Broadway, Pennsville, NJ 08070.
Township of Pilesgrove | Municipal Building, 1180 Route 40, East, Pilesgrove, NJ 08098.
Township of Pittsgrove | Municipal Building, 989 Centerton Road, Pittsgrove, NJ 08318.
Township of Quinton | Municipal Building, 885 Quinton Road, Quinton, NJ 08072.
Township of Upper Pittsgrove | Township of Upper Pittsgrove, 431 Route 77, Elmer, NJ 08318.
Union County, New Jersey (All Jurisdictions)
Maps Available for Inspection Online at: http://www.fema.gov/preliminaryfloodhazarddata
City of Elizabeth | Construction Department, Room 401, 50 Winfield Scott Plaza, Elizabeth, NJ 07201.
City of Linden | Municipal Building, 301 North Wood Avenue, Linden, NJ 07036.
City of Rahway | Office of Engineering, 1 City Hall Plaza, Rahway, NJ 07065.
City of New York, New York
Maps Available for Inspection Online at: http://www.fema.gov/preliminaryfloodhazarddata
City of New York | Department of City Planning, Waterfront Division, 22 Reade Street, New York, NY 10007.
City of New York (Bronx County) | New York City Department of Buildings, Bronx Borough Office, 1932 Arthur Avenue, 5th Floor, Bronx, NY 10457.
City of New York (Kings County) | New York City Department of Buildings, Brooklyn Borough Office, 210 Joralemon Street, 8th Floor, Brooklyn, NY 11201.
City of New York (New York County).. | Department of Buildings, Manhattan Borough Office, 280 Broadway, 3rd Floor, New York, NY 10007.
City of New York (Queens County) | New York City Department of Buildings, Queens Borough Office, 120-55 Queen Boulevard, 1st Floor, Kew Gardens, NY 11424.
City of New York (Richmond County).. | New York City Department of Buildings, Staten Island Borough Office, 10 Richmond Terrace, Borough Hall, 2nd Floor, Staten Island, NY 10301.
Westchester County, New York (All Jurisdictions)
Maps Available for Inspection Online at: http://www.fema.gov/preliminaryfloodhazarddata
City of Mount Vernon | Public Works Department, 1 Roosevelt Square, Room 108, Mount Vernon, NY 10550.
City of New Rochelle | Clerk's Office, 515 North Avenue, New Rochelle, NY 10801.
City of Peekskill | Building and Engineering Department, 840 Main Street, Peekskill, NY 10566.
City of Rye | Building Department, 1051 Boston Post Road, Rye, NY 10580.
City of Yonkers | Engineering Department, 40 South Broadway, Yonkers, NY 10701.
Town of Cortlandt | Cortlandt Town Clerk's Office, 1 Heady Street, Cortlandt Manor, NY 10567.
Town of Harrison | Engineering Department, 1 Heineman Place, Harrison, NY 10528.
Town of Mamaroneck | Town Center, 740 West Boston Post Road, Mamaroneck, NY 10543.
Town of Mount Pleasant | Mount Pleasant Town Engineering Department, One Town Hall Plaza, 3rd Floor, Valhalla, NY 10595.
Town of New Castle | New Castle Town Building Department, 200 South Greeley Avenue, Chappaqua, NY 10514.
Town of Ossining | Building Department, 16 Croton Avenue, Ossining, NY 10562.
Village of Briarcliff Manor | Village Hall, 1111 Pleasantville Road, Briarcliff Manor, NY 10510.
Village of Buchanan | Municipal Building, 236 Tate Avenue, Buchanan, NY 10511.
Village of Croton-on-Hudson | Engineering Department, 1 Van Wyck Street, Croton-on-Hudson, NY 10520.
Village of Dobbs Ferry | Village Hall, 112 Main Street, Dobbs Ferry, NY 10522.
Village of Hastings-on-Hudson | Village Hall, 7 Maple Avenue, Hastings-on-Hudson, NY 10706.
Village of Irvington | Building Department, 85 Main Street, Irvington, NY 10533.
Village of Larchmont | Building Department, 120 Larchmont Avenue, Larchmont, NY 10538.
Village of Mamaroneck | Building Department, 169 Mount Pleasant Avenue, Mamaroneck, NY 10543.
Village of Ossining | Building Department, 16 Croton Avenue, Ossining, NY 10562.
Village of Pelham | Village Hall, 195 Sparks Avenue, Pelham, NY 10803.
Village of Pelham Manor | Village Hall, 4 Penfield Place, Pelham Manor, NY 10803.
Village of Port Chester | Building Department, 222 Grace Church Street, Port Chester, NY 10573.
Village of Sleepy Hollow | Building Department, 28 Beekman Avenue, Sleepy Hollow, NY 10591.
Village of Tarrytown | Building and Engineering Department, One Depot Plaza, Tarrytown, NY 10591.
Collin County, Texas, and Incorporated Areas
Maps Available for Inspection Online at: http://www.fema.gov/preliminaryfloodhazarddata
City of Plano | City Hall, Engineering Department, 1520 Avenue K, Plano, TX 75074.

[FR Doc. 2015-05852 Filed 3-13-15; 8:45 am]

BILLING CODE 9110-12-P